NUCLEAR REGULATORY COMMISSION

Solicitation of Public Comments on Agency Guidelines for Ensuring Information Quality

AGENCY: Nuclear Regulatory Commission (NRC).

ACTION: Request for public comment.

SUMMARY: The NRC is requesting comments from members of the public, licensees, and interest groups on its draft Information Quality (IQ) Guidelines. Focus questions have been provided to increase public feedback. The IQ Guidelines contain the Commission's policy and procedures for ensuring the quality of information before it is disseminated to the public. It also contains the procedures by which an affected person may obtain correction of information that does not comply with the IQ Guidelines. The Commission will consider comments received in response to this notice in developing its final IQ Guidelines.

DATES: Comments are due by May 30, 2002. Comments received after this date will be considered if it is practical to do so, but the NRC is able to only ensure consideration only for comments received on or before this date.

ADDRESSES: Comments may be mailed to Information Quality, c/o Vicki Yanez, Web, Publishing, and Distribution Services Division, Office of the Chief Information Officer, Mail Stop: T6-E7, U.S. Nuclear Regulatory Commission, Washington, DC 20555-0001, e-mailed to infoquality@nrc.gov, or faxed to 301-415-5272. Comments may also be submitted at the NRC Web site information quality comment form that is accessible from NRC's “Contact Us” Web page (http://www.nrc.gov/contact-us). Comments may be delivered to Vicki Yanez, Two White Flint North, 11545 Rockville Pike, Rockville, Maryland, between 7:30 a.m. and 4:15 p.m. on Federal workdays.

FOR FURTHER INFORMATION CONTACT: Vicki Yanez, Office of the Chief Information Officer, U.S. Nuclear Regulatory Commission, Washington DC 20555-0001; telephone: 301-415-6844 or by Internet electronic mail at infoquality@nrc.gov.

SUPPLEMENTARY INFORMATION:

OMB and Agency Responsibilities

Section 515(a) of the Treasury and General Government Appropriations Act, FY 2001 (Pub. L. 106-554), directed the Director, Office of Management and Budget (OMB), to issue guidelines that provide policy and procedural guidance to Federal agencies for ensuring and maximizing the quality, objectivity, utility, and integrity of information (including statistical information) disseminated by Federal agencies in fulfillment of the purposes and provisions of the Paperwork Reduction Act. OMB issued its final guidelines on September 28, 2001. Subsequent guidance was issued by OMB on February 22, 2002 (67 FR 8452). These guidelines require agencies subject to the Paperwork Reduction Act, including the NRC, to:

1. Issue their own information quality guidelines ensuring and maximizing the quality, utility, integrity, and objectivity of information disseminated by the agency;

2. Establish an administrative mechanism allowing affected persons to seek and obtain correction of information maintained and disseminated by the agency that does not comply with these guidelines; and

3. Report annually to the Director of OMB the number and nature of complaints received by the agency regarding compliance with these guidelines concerning the quality, utility, integrity, and objectivity of information and how such complaints were resolved.

The OMB guidelines further establish the following schedule:

May 1, 2002.

• Submit a draft report to OMB providing NRC's information quality guidelines and explaining how these guidelines will ensure and maximize the quality, utility, integrity, and objectivity of information disseminated by the NRC.

• Publish the draft report in the Federal Register; post the draft report on the NRC public Web site; ask for public comments on the report.

July 1, 2002.

• Submit to OMB for review the agency's revised quality guidelines that reflect public comments.

October 1, 2002.

• Publish in the Federal Register a notice of availability of the final NRC guidelines and post the guidelines on the NRC public Web Site.

• Ensure that information covered by these guidelines and disseminated for the first time by NRC on or after this date has undergone reviews for quality.

January 1, 2004 and each January 1 thereafter.

• Submit to the Director of OMB a report on the number and nature of complaints received by NRC regarding NRC's compliance with these OMB guidelines and the resolution of complaints received.

Draft Report to the Office of Management and Budget Information Quality Guidelines of the U.S. Nuclear Regulatory Commission

NRC's Commitment to Information Quality

NRC's mission is to regulate nuclear facilities and nuclear materials to protect the public health and safety, the environment, and the common defense and security. NRC recognizes that its decisions must be objective and clear to the public. Decisions must be based on sound scientific information and accurate data. Because of the importance of openness and transparency, NRC routinely makes available to the public the majority of its regulatory documents, information about its decision-making processes, and the standards used to analyze information submitted to NRC by the regulated community.

Much of the information NRC makes publicly available does not fall within the scope of the OMB guidelines. However, NRC is committed to quality for all of the information it disseminates, even if it is not specifically covered by these guidelines. NRC policies and processes are designed to ensure that NRC information reflects a level of quality commensurate with the nature of the information. This includes information ranging from explanatory information designed to enhance the general public's understanding of NRC's mission to complex scientific and engineering analyses that forms the technical basis for our rules and regulatory decisions.

General Approach

NRC's proposed Information Quality (IQ) Guidelines rely on existing agency policies and procedures to meet the standards for information quality. In accordance with OMB's guidelines, NRC uses a graduated approach to ensuring information quality—the more influential the information, the more rigorous the quality standards used—with the most influential scientific, financial, and statistical (SFS) data being subject to the most rigorous IQ standards and procedures.

OMB defines influential SFS information to encompass information that “the agency can reasonably determine that dissemination of the information will have or does have a clear and substantial impact on important public policies or important private sector decisions.” OMB authorized each agency to define influential SFS in ways appropriate for it, given the nature of the issues for which the agency is responsible.

NRC has defined influential SFS as information that forms the technical basis for a substantive rulemaking that has substantial impact on an industry. There may also be other types of information that the NRC deems “influential” under its guidelines on a case-by-case basis.

NRC's definition of influential information principally applies to SFS information that forms the basis for rulemaking because rules are legally binding, whereas other agency issuances, such as Regulatory Guides, Generic Communications, and others do not mandate industry-wide compliance. Substantive rules are those technical regulations that have a substantial impact on an entire industry. These rules, for example, could include revisions to 10 CFR part 50 regulations for power reactors, or revisions to 10 CFR part 70 regulations for major fuel cycle facilities that would have an additional substantial impact on an industry.

Components of Information Quality

OMB's guidelines define three components of information quality: utility, integrity, and objectivity. The following sections describe how NRC's proposed guidelines ensure that agency information meets the OMB standards for these three components.

How NRC's Draft Guidelines Meet the Standard for Information Utility

Utility refers to the usefulness of information to its intended user. The NRC's proposed Information Quality Guidelines are built on existing policies and procedures to meet the standard for information utility.

NRC ensures information utility (1) through existing agency policies that determine what information is disseminated and how quickly it is made available; (2) by on-going processes such as feedback forms and user groups to solicit input on the public's interests pertaining to what and how information is disseminated, (3) by existing processes that routinely request public comments on individual documents, and (4) by existing tools and assistance to help the public find the information they are seeking.

NRC's internal policy on the public release of information directs the staff to make public all information associated with the agency's regulatory processes and decisions unless release is restricted because, for example, it contains classified national security information, safeguards information, proprietary information, is protected by the Privacy Act, or contains other information withholdable under the Freedom of Information Act. This policy includes specific timeliness requirements. NRC information is available through the agency's Web site at www.nrc.gov and through the Agencywide Document Access and Management System (ADAMS), which is accessible from the Electronic Reading Room at NRC's Web site. ADAMS provides the public with access to the full text of the record copy for virtually all of NRC's publicly available records. A few records, too large for convenient access in ADAMS, are available on CD-ROM from the NRC Public Document Room.

NRC notes that since September 11, 2001, the information made available on the agency Web site is under review to ensure that homeland security is not compromised. This reassessment balances restrictions related to homeland security with the need for the public to have information about NRC's regulatory activities and the industry NRC regulates. As information is cleared, it is being restored to the site.

NRC actively seeks public input on its major approaches to information dissemination—the Web and ADAMS. During the process of redesigning NRC's public Web site, NRC conducted two usability surveys, held focus group meetings with several stakeholder groups, and made a prototype site publicly available for comment. Information obtained through these activities has been incorporated into the redesign of the NRC public Web site. An example of a suggestion from the public that was adopted during the redesign is the Documents for Comment page, which provides access to all agency documents available for comment from a single page. OMB recently approved a Web site feedback form through which NRC intends to continue the process of collecting public comments and measuring public satisfaction with its Web site. In addition, the NRC has formed a public user group to obtain public input on ADAMS, the document management system described above. The user group serves as a forum for two-way communications with the agency about making ADAMS more accessible and easier to use.

NRC frequently seeks public comment on particular information products through public meetings, comment forms at its Web site, in Federal Register Notices, and at its online rulemaking forum and technical conference Web pages. These opportunities for comment and interaction are described at the NRC's Web site under Public Involvement (http://www.nrc.gov/public-involve.html), specifically at the Documents for Comment page (http://www.nrc.gov/public-involve/doc-comment.html), and also at Contact Us (http://www.nrc.gov/who-we-are/contactus.html).

Another important component of utility is the ability of the user to find the information he or she is seeking. In the recent redesign of NRC's Web site, the agency made a special effort to enhance the public's ability to find information. This included organizing information in response to public interests, highlighting key topics important to the public, improving and standardizing Web site navigation, improving the site's finding aids (site search, index, and site map), and making all contact information available from a single page (Contact Us). In addition, NRC has a full-time staff of technical reference librarians in the agency's Public Document Room (PDR) whose sole mission is to help the public find and obtain the information they seek. The PDR staff may be reached by visiting the PDR, or by phone, fax, mail, e-mail, or a query form available at the Web site.

How NRC's Draft Guidelines Meet the Standard for Information Integrity

Integrity refers to the security of information—its protection from unauthorized access or revision to ensure that the information is not compromised. NRC's proposed Information Quality Guidelines are built on extensive existing policies and procedures to meet the standard for information integrity.

The agency ensures information integrity by issuing security clearances to employees, contractors, and others commensurate with their access to NRC, physical and electronic access controls to information and the equipment used to process it; by the security practices required for agency computer systems; by the agency's records management processes; and by management controls and concurrences that are required before information is finalized and made publicly available.

In addition to requiring clearances for all employees, NRC requires contractors with access to computer systems and associated information to undergo a clearance process. Levels of clearance depend on the sensitivity of the information to which the individual requires access.

Only certain authorized staff or contractors have physical access to the computer facilities used to store and process NRC's information and records. Electronic access is password protected and levels of access are graduated, with only a few authorized staff and contractors having the more powerful systems administration privileges.

The NRC's policies concerning system development and maintenance ensure that computer systems implemented by the NRC are reliable and do not inadvertently alter data. These policies require that systems, prior to acceptance, be tested to ensure proper performance of the software and the supporting network and telecommunications systems. Computer security controls determine appropriate levels of access to computers, network equipment, and to files in computer systems, as specified in policies on computer and telecommunications security.

NRC's records management program ensures that the agency's official records are properly maintained and protected. The Agencywide Documents Access and Management System (ADAMS) stores official records in an image format to ensure the fidelity of the records. Once a document is declared as an official record in ADAMS it cannot be deleted or changed except by authorized records officials with explicit approval by senior management. A completely independent document repository contains copies of the official records, which the public may view through the NRC Web site. Incoming information which supports agency regulatory decisions is scanned as an image, stored in the same manner, and is thus protected from tampering.

NRC's correspondence policy specifies the agency's management review and approval process needed to finalize an internally generated document before it becomes an official record. It is NRC's policy that no copy of a document is made publicly available unless it is an official record. In addition, NRC's Web policies specify the approvals required for the contextual information pages at our Web site (all information at the Web site other than copies of official record documents).

How NRC's Draft Guidelines Meet the Standard for Information Objectivity

Objectivity, as defined in the OMB guidelines, addresses both presentation and substance. The presentation and substance of the information must be accurate, clear, complete, reliable, and unbiased. NRC's proposed Information Quality Guidelines are built on numerous existing policies and procedures to meet the standard for information objectivity.

NRC's existing policies and standards ensure that NRC information meets the standards for objectivity, in both presentation and substance. These policies address correspondence, NRC reports, contractor and grantee reports, and public Web site standards. The agency's Regulations Handbook and Regulatory Analysis Guidelines also address objectivity.

The NRC recognizes the special requirements for ensuring objectivity for SFS information. It is important that this information be unbiased and transparent. Transparency refers to the practices of describing the data and methods used in developing an information product in a way that it would be possible for an independent, qualified individual or organization in some cases to reproduce the results.

To ensure that such information is unbiased, the NRC has several existing external Advisory Committees to provide peer review of agency technical information. These Advisory bodies are:

• The Advisory Committee on Reactor Safeguards (ACRS)

• The Advisory Committee on Nuclear Waste (ACNW)

• The Advisory Committee on Medical Uses of Isotopes (ACMUI)

The Charters of the ACRS, ACNW, and ACMUI are available at the agency Public Web site at http://www.nrc.gov/what-we-do/regulatory/advisory.html.

For activities related to the nuclear materials program, the NRC coordinates regulatory responsibilities with the Agreement States. It is NRC's policy to provide an opportunity to these Agreement States for early and substantive involvement in the formulation of rules, policies, directives or guidance. For some of the more significant materials regulatory changes, NRC and Agreement States form work teams to develop new regulatory products. For example, the revision to NRC's regulations for the medical community (10 CFR part 35) involved extensive interaction with the Agreement States. NRC also provides opportunity for active State involvement through the Governor appointed State Liaison Officers Program.

NRC has also established an internal advisory group—the Committee for Review of Generic Requirements (CRGR)—that reviews proposed changes to regulatory requirements, generic correspondence, and regulatory guidance. The CRGR reviews the implications of backfitting the proposed regulatory changes on NRC licensees to ensure they are justified. The CRGR also reviews the use of risk-informed approaches in NRC's regulatory requirements.

Also, consistent with the traditional means by which scientific and engineering communities ensure the quality of research, the NRC requires that the results of the research it sponsors be subjected to independent peer review to ensure that it is unbiased.

The NRC produces transparent analytic results by requiring that the data and methods used are explained. Results are intended to be reproducible by a qualified third party. NRC's existing policy and procedures concerning the preparation of staff, contractor, and grantee reports and in the Regulatory Analysis Guidelines ensure transparency and reproducibility. Transparency is promoted by including a methodology section in research and investigative reports that describes the methods used and data sources, including any computer codes, for the results reached. Some of these analytical methods are described in NRC's Regulatory Guides, Standard Review Plans, the NRC Inspection Manual, the NRC Enforcement Manual, and other agency technical reports. In addition, much of the data from license applications or other incoming industry documents are also made publicly available.

In situations where public access to data and methods will not occur due to other compelling interests (e.g., classified national security information, safeguards information, proprietary information, or information protected by the Privacy Act), the NRC applies rigorous checks of analytic results and documents the checks undertaken.

The NRC believes that public involvement is a key element of the information quality process and an important element of ensuring unbiased, transparent analyses. This belief is reflected in NRC's use of participatory rulemaking practices and its encouragement of public comment on draft rulemakings and draft guidance documents. These opportunities for comment and interaction are described at the NRC's Web site under Public Involvement (http://www.nrc.gov/public-involve.html) and also at Contact Us (http://www.nrc.gov/who-we-are/contactus.html). Public meetings are announced on our agency's Web site at the Public Meeting Schedule page. The agency's public meeting practices include live Webcasts of Commission meetings and the use of facilitators in meetings designed for public interaction to maximize meeting effectiveness.

Administrative Processes for the Public To Seek Correction of Information

As illustrated in the discussion above, the processes that the NRC uses to generate and disseminate information provide a variety of ways in which the public can seek corrections of information throughout the development process of a final information product. As described in the draft guidelines that follow, the NRC will provide a new process by which the public can seek corrections of information as described in Section 515(a) of Public Law 106-554.

Conclusion

The NRC's existing policy and procedures meet OMB's information quality standards for information quality. As described above, quality is achieved through numerous existing agency review processes, commensurate with the nature of the information, that occur prior to public dissemination. Additionally, the NRC's five-member Commission reviews and approves all important policies.

Focus Questions

To increase public feedback, the NRC has provided these questions to focus comments, but all comments will be considered.

NRC Information Quality Guidelines

Do the NRC's Information Quality Guidelines achieve the goals set out by the OMB's guidance?

Does the NRC clearly describe how quality is addressed in all information products disseminated?

Does the NRC clearly describe what information products are subject to these guidelines and the administrative mechanism for correction?

Procedures for the Public To Seek Correction of Information Under Section 515(a)

Is the NRC process described sufficient to allow the public to submit a request seeking correction to an information product?

Does the NRC process provide adequate avenues for submitting a request?

Do the NRC procedures clearly communicate that an appeal can be requested if the first request for seeking correction has been denied?

NRC's Draft Information Quality Guidelines

Scope

Information Subject to These Guidelines

The agency's information quality reviews will apply to agency documents publicly disseminated for the first time on or after October 1, 2002. Documents that had already been placed on NRC's Web site or in the Public Document Room prior to October 1 need not go through a information quality review because they have already been disseminated, but these documents would be subject to the public seeking correction and appeal if the information is subject to these guidelines.

NRC information covered by the guidelines includes, but is not limited to, information pertaining to:

• Rulemakings.

• Inspection Reports.

• Findings of the reactor oversight process.

• Regulatory Guides and other guidance to licensees.

• Generic Communications to licensees, including information notices, generic letters, bulletins and others.

• Technical Reports.

These guidelines apply to print and electronic versions of agency information products.

Because of the importance of openness and transparency, the NRC routinely makes available to the public the majority of its regulatory documents, information about its decision-making processes, and the standards used to analyze information submitted by the regulated community. OMB's guidelines require NRC to apply information quality standards only to a subset of this information; however, NRC is committed to quality for all of the information it disseminates whether or not it is specifically covered by these guidelines. In addition, the NRC has many existing processes by which the public may comment on agency information. The agency will continue to use these processes to respond to comments and requests regardless of whether they are specifically covered by these guidelines.

Information Not Subject to These Guidelines

Based on the OMB guidelines, the following kinds of agency information are not subject to the guidelines developed by the NRC:

• Information products associated with adjudicative processes, public filings, or subpoenas.

• Non-scientific/non-statistical general, procedural, or organizational information.

• Information that is not initiated or sponsored by the NRC.

• Information that expresses opinions rather than formal agency views.

• Information intended for intra-agency use.

• Information intended for inter-agency use or shared government information.

• Information disseminated to agency employees, contractors, or grantees.

• Agency correspondence with individuals or persons.

• Agency press releases.

• Agency speeches.

• Archival records.

• Trade secrets, intellectual property, classified, restricted, unclassified safeguards, proprietary, sensitive homeland security, privacy and other information withholdable under the Freedom of Information Act.

• Responses to requests made under the Freedom of Information Act, the Privacy Act, the Federal Advisory Committee Act, or similar laws.

NRC information quality standards may be waived temporarily for information disseminated under urgent situations. The NRC will consider the following as urgent situations: emergency conditions at licensed facilities and imminent or credible threats to the public health and safety, the environment, and the common defense and security, including homeland security.

Information Quality Standards

Information products disseminated by the NRC will meet NRC's existing standards in order to ensure and maximize information quality. These guidelines describe key elements of NRC's existing standards and how they address the key components of information quality.

Existing agency policies and procedures ensure that standards and review processes for information quality are commensurate with the influence of the information on agency policies and decision-making. The processes to ensure quality are most rigorous for influential scientific, financial, or statistical information.

Influential scientific, financial, or statistical information as defined by OMB means that “the agency can reasonably determine that dissemination of the information will have or does have a clear and substantial impact on developing important public policies or important private sector decisions.”

For NRC influential scientific, financial, or statistical information is defined as information that forms the technical basis for a substantive rulemaking that has substantial impact on an industry. There may also be other types of information that the NRC deems “influential” under Section 515(a) on a case-by-case basis.

Information quality is defined as comprising three elements: utility, integrity, and objectivity. NRC's standards for these three elements are explained in the following three sections.

NRC Guidelines for Achieving Information Utility

Utility refers to the usefulness of the information to its intended users. The NRC will adhere to existing policies to ensure information utility.

NRC will continue to follow its existing policy on the dissemination of information to the public, which clearly specifies what is to be made public as well as the timeliness standard for public release. To achieve an open regulatory environment, the NRC will continue to make public information associated with agency regulatory processes and decisions unless release is restricted because, for example, it contains classified national security information, safeguards information, proprietary information, sensitive homeland security information, or other information withholdable under the Freedom of Information Act.

In addition, the NRC will continue to solicit public input on what and how information is disseminated through feedback mechanisms at NRC's Web site and for NRC's Agencywide Documents Access and Management System (ADAMS). Further, NRC will continue to request comments on individual documents and hold public meetings as appropriate to solicit public comment.

The NRC's Public Document Room will continue to provide assistance to help the public locate the information they are seeking quickly and conveniently.

NRC Guidelines for Achieving Information Integrity

Integrity refers to the security of information from unauthorized access or revision to ensure that the information is not compromised through corruption or falsification. The NRC will comply with the integrity standard by adhering to existing NRC policies for personnel security, computer security, information security, and records management.

Key components include

• Policies for systems development and life cycle management requiring that computer systems are designed and tested to ensure that data cannot be inadvertently altered and that appropriate access controls are included in systems designs.

• Computer and personnel security policies ensuring that employees and contractors who have access to electronic information and associated computer systems are screened for trustworthiness and are assigned the appropriate level of access.

• Records Management policies requiring that official agency records are properly maintained and protected. In particular, these policies require that documents disseminated to the public are declared as official agency records in NRC's Agencywide Documents Access and Management System (ADAMS), which protects them from alteration or falsification.

NRC Guidelines for Achieving Information Objectivity

Objectivity involves two distinct elements: presentation and substance. Information must be presented in a manner that is accurate, clear, complete and unbiased. In addition, the substance of the information presented must be accurate, reliable, and unbiased. To meet the quality standard of objectivity, the NRC will use existing agency guidelines, as described below.

Accuracy and Completeness

The NRC will continue to ensure that the accuracy standard is met through NRC's formal review and concurrence processes that apply to all official records. Official records include rulemaking documents, inspection reports, technical reports, generic communications, and all other agency documents covered by these guidelines. NRC will also continue to use existing quality management controls prior to disseminating information for the accuracy of all relevant content at the NRC public Web site.

Reliable, Unbiased

The NRC will continue to ensure that the standard for reliable, unbiased information is met through the means listed below. The types and rigor of review processes applicable to specific information products are commensurate with the significance of the information, with influential information receiving the most rigorous review.

• Sound statistical and research methods to generate data and analytic results for scientific and statistical information

• Peer reviews of agency-sponsored research

• Reviews of agency information by independent advisory committees: the Advisory Committee on Reactor Safeguards (ACRS), the Advisory Committee on Nuclear Waste (ACNW), and the Advisory Committee on the Medical Uses of Isotopes (ACMUI).

• Reviews by the Committee to Review Generic Requirements for information and related analyses with generic implications.

• Reviews of matters pertaining to the regulations of nuclear materials by the Agreement States

• Opportunities for the public and States to comment on rulemakings, Commission policy statements, Regulatory Guides, and other information dissemination products as appropriate.

• Use of public meetings to seek public views and solicitation of comments through the NRC Web site and Federal Register Notices as appropriate.

• Compliance with internal policy to ensure unbiased Incident Investigation Team investigations.

• Reviews of proposed policy decisions by the five-member Commission.

Transparency

Influential scientific, financial, or statistical information must have a high degree of transparency. Transparency refers to the practices of describing the data and methods used in developing an information product in a way that it would be possible for an independent, qualified individual or organization in some cases to reproduce the results. To the extent that this standard is applicable, the NRC will continue to ensure that the transparency standard is met by including methodology sections or appendixes that describe how the information is gathered and evaluated in relevant agency information products.

Clarity

The NRC will continue to ensure that the clarity standard is met by adhering to the agency's Plain Language Program in agency written and electronic products; by ensuring that other covered information, particularly the analyses of technical information, receives editorial review; and that the agency responds to stakeholder comments on the clarity of proposed rules.

Procedures for the Public To Seek Correction of Information

1. What You Must Do

To seek correction of information under Section 515(a) of Public Law 106-554, follow the procedure described below:

• State that your request for correction of information is submitted in accordance with NRC's Information Quality Guidelines.

• Include your name, mailing address, fax number, or e-mail address, and telephone number and organizational affiliation, if any. The NRC needs this information to respond to your request and contact you if necessary.

• Clearly describe the information you believe is in error and want corrected. Include the source of the information (for example, the name and date of the report or data product), the exact location of the error (for example, the page, figure, table number, or the Web page address), and a detailed description of the information to be corrected.

• State specifically why the information should be corrected, and if possible, recommend specifically how it should be corrected. Provide supporting documentary evidence, such as comparable data or research results on the same topic, or a specific authoritative source to help in the review of your request. If the documentary evidence is supplied by means of a reference, the reference must be specific enough that NRC can easily locate the information serving as the basis for the correction request.

2. What We Will Do

Based on a review of the information provided, the NRC will

• Determine whether a correction is warranted, and if so, what action to take. The decision on appropriate corrective action(s) will be based upon the nature and timeliness of the information product involved and such factors as the significance of the correction on the use of the information product and the magnitude of the correction.

• Respond to your request for correction of information within 90 business days of receipt by letter, e-mail, or fax. Our response will explain the findings of the review and actions NRC will take. If the request requires more than 90 business days to resolve, the NRC will tell you that more time is required, state the reason why, and include an estimated decision date.

3. How To Submit Your Request

You must submit your request for correction of information under these guidelines in writing by mail, fax, e-mail, or on-line as follows:

Mail: Nuclear Regulatory Commission, Information Quality, Washington, DC 20555.

E-mail: Infoquality@nrc.gov.

Fax: TBD.

On-Line: http://www.nrc.gov/ [exact web url to be determined].

4. Your Right To Appeal Our Decision

If you wish to appeal NRC's denial of your request for correction or you wish to appeal the decision on the corrective action, follow the procedure described below:

• Submit your appeal within 90 business days of receipt of NRC's notification of denial or of NRC's notification of the corrective action. (Only the original requestor may appeal the decision.)

• Include a dated copy of the original request for correction, and a description of how the response failed to resolve the request for correction.

• Submit your appeal in accordance with the directions in the agency's response.

An agency appellate official, who is independent of the initial response to the request for correction, will evaluate the appeal and will notify you of the final results of the appeal within 45 business days. The agency appellate official may consult with other Federal agencies in responding to an appeal, as appropriate.

5. NRC's Right To Reject Certain Requests

The correction process is designed to address the genuine and valid needs of affected persons without disrupting agency operations. The NRC, in making a determination of whether to correct information, may reject claims made in bad faith or without justification and is required to undertake only the degree of correction that it concludes is appropriate for the nature and timeliness of the information involved. The NRC will explain decisions to deny or limit corrective actions in its annual fiscal year reports to the Office of Management and Budget.

Disclaimer

These guidelines on submitting comments are not intended to and do not confer or imply any rights of individuals or organizations beyond those permitted in specific laws.

Privacy Act Statement for Information Correction Request Form

We are authorized to collect the information requested on the NRC Information Request Form under section 515(a) of the Treasury and General Government Appropriations Acts for Fiscal Year 2001 (Public Law 106-554, codified at 44 USC 3516, note). This information is needed to reply to your comment. You do not have to furnish the information, but failure to do so will prevent the NRC from notifying you of the resolution of your request and will eliminate any opportunity for appeal. We may disclose information to a congressional office in response to an inquiry made on your behalf; to the Department of Justice, a court, or other tribunal when the information is relevant and necessary to litigation; or to a contractor or another Federal agency to help accomplish a function related to this process.

Dated at Rockville, Maryland, this 29th day of April 2002.
For the Nuclear Regulatory Commission.
Jacqueline Silber,
Deputy Chief Information Officer, Office of the Chief Information Officer.

[FR Doc. 02-11023 Filed 5-2-02; 8:45 am]

BILLING CODE 7590-01-P